DEPARTMENT OF HEALTH AND HUMAN SERVICES

Centers for Disease Control and Prevention

[30Day-07-06AT]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 371-5960 or send an e-mail to omb@cdc.gov. Send written comments to CDC Desk Officer, Office of Management and Budget, Washington, DC or by fax to (202) 395-6974. Written comments should be received within 30 days of this notice.

Proposed Project

A sustainability Assessment of Community-based Interventions in Northwestern Tanzania—New—National Center for Chronic Disease Prevention and Health Promotion (NCDDPHP), Centers for Disease Control and Prevention (CDC).

Background and Brief Description

Empowerment and capacity building have been promoted by the Bamako Initiative as integral steps in making Primary Health Care (PHC) services universally available. These Health Sector Reform programs have built on the Bamako Initiative since the early 1990s, drawing attention to the potential for community engagement in health services and health governance through mechanisms such as Community Health Funds. In many contexts, community-focused approaches have been used to promote maternal and infant health, and community well-being.

In Tanzania, a community-based approach to improve maternal and newborn health (MNH) and reduce preventable maternal and perinatal deaths was implemented by CARE with CDC technical support from 1997-2002, called the Community Based Reproductive Health Program (CBRHP). This approach used a community-based surveillance system to identify preventable deaths during pregnancy, during the perinatal and newborn period, and developed a community mobilization program utilizing community volunteers to assist women and families with obstetrical emergencies to get to functioning health facilities. Specifically the initiative focused on increasing capacity for community members to identify and participate in decisions and strategies for providing health care services, and supporting prevention and health education through village health workers (VHWs).

Evaluation of this effort showed that the community members used the services successfully and supported their volunteers, but only a handful of these communities had programs in place that were functional at the end of the project in 2002.

Since the end of project activities, the long-term sustainability of community-level efforts has not been assessed. Funds were obtained from the CDC-Georgia State University Initiative to conduct a sustainability assessment. Assessment of sustainability is critical for promoting community mobilization within the health care sector in resource poor settings such as northwestern Tanzania and places where CARE and other organizations work. Little data exist on the issue of long-term viability of community efforts and this project has the potential to inform the discussion about sustainability of health-focused programs.

The project staff at CDC is seeking to implement data collection for this project in Northwestern Tanzania to examine long-term sustainability of community-based efforts.

There are no costs to the respondents other than their time. The total estimated annualized burden hours are 267.

Estimated Annualized Burden Hours
Type of respondent | Form | Number of respondents | Number of responses per respondent | Average burden per response (in hours)
Villagers | Community assessment Survey | 200 | 1 | 1
Leaders | Key-informant interview guide | 40 | 1 | 45/60
Village Health Workers | Village health worker open ended interview-guide | 44 | 1 | 30/60
Facility Staff | Facility staff guide (1 pre-assessment and 1 post-assessment) | 15 | 2 | 30/60

Dated: April 20, 2007.
Joan F. Karr,
Acting Reports Clearance Officer, Centers for Disease Control and Prevention.

[FR Doc. E7-7977 Filed 4-25-07; 8:45 am]

BILLING CODE 4163-18-P